INTERNATIONAL TRADE COMMISSION

[Investigation No. 337-TA-1428]

Certain Women's Flats With Colored Outsoles Thereof; Notice of a Commission Determination To Review in Part an Initial Determination Granting Complainant's Motion for Summary Determination of Violation; Request for Written Submissions on Remedy, the Public Interest, and Bonding

AGENCY: U.S. International Trade Commission.

ACTION: Notice.

SUMMARY: Notice is hereby given that the U.S. International Trade Commission (“Commission”) has determined (1) to review in part an initial determination (“ID”) (Order No. 10) of the presiding administrative law judge (“ALJ”) granting Complainant's motion for summary determination of violation, and (2) to request written submissions from the parties, interested government agencies, and interested persons, under the schedule set forth below, on remedy, public interest, and bonding.

FOR FURTHER INFORMATION CONTACT: Jonathan D. Link, Esq., Office of the General Counsel, U.S. International Trade Commission, 500 E Street SW, Washington, DC 20436, telephone (202) 205-3103. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 18, 2024, based on a complaint filed by Gavrieli Brands LLC (“Complainant”) of Culver City, California. 89 FR 102951-53 (Dec. 18, 2024). The complaint, as supplemented, alleges violations of section 337 of the Tariff Act of 1930, as amended, 19 U.S.C. 1337 (“section 337”), in the importation into the United States, the sale for importation, or the sale within the United States after importation of certain women's flats with colored outsoles thereof by reason of infringement of the claim of one or more of U.S. Design Patent Nos. D681,928 (“D'928 patent”), D844,950 (D'950 patent”), D844,951 (“D'951 patent”), D681,927 (“D'927 patent”), D781,035 (“D'035 patent”), D781,032 (“D'032 patent”), D686,812 (“D'812 patent”), and D688,853 (“D'853 patent”). Id. The complaint also alleges violations of section 337 based upon the importation into the United States, or in the sale of certain women's flats with colored outsoles thereof by reason of trade dress infringement, the threat or effect of which is to destroy or substantially injure an industry in the United States. Id. at 102952. The complaint further alleges that a domestic industry exists. Id. The Commission's notice of investigation named as respondents Kijera's OneDrop LLC (“OneDrop”) of New York, New York; Craze of Essel Park, Philippines; Pierjeda Information Technology Co., Ltd. d/b/a “Piergitar” (“Piergitar”), and Guangzhou Shun Cheng Trading Co., Ltd. (“Guangzhou Shun Cheng”) of Guangzhou, China; Shengze Trading Company of Zhangshou City, China; Kunming Ouxiang Trading Co., Ltd. (“Kunming Ouxiang”) of Kunming City, China; Huihui Bianan of Beijing, China; Bingxin Qingfeng (“Bingxin Qingfeng”) of Zhongshan City, China; Baiqiuju1983, tb249835650 (“tb249835650”), Yuyoufang Foreign Trade Store (“Yuyongfang”), and Xu Wengping 123 of Zhongshan City, China; and Ynwll of Huilongguan, China (collectively, “Respondents”). Id. The Office of Unfair Import Investigations (“OUII”) is also a party to this investigation. Id.

On April 23, 2025, Complainant moved to show cause why the Respondents should not be found in default for their failure to respond the complaint and notice of investigation as required by Commission Rule 210.13 (19 CFR 210.13). On April 25, 2025, OUII filed a response in support of Complainant's motion.

On May 5, 2025, the ALJ issued an order (Order No. 7) granting Complainant's motion and directing the Respondents to show cause why they should not be found in default, no later than May 12, 2025. Order No. 7 at 3. The ALJ found that Respondent OneDrop was served with a copy of notice of investigation, the complaint, and all public exhibits and appendices to the complaint by express delivery (Federal Express) on March 4, 2025; all other Respondents were served with these documents by hand delivery no later than March 25, 2025. Id. at 2. The ALJ found that the latest date any of the Respondents would have been required to respond to the complaint and notice of investigation was April 14, 2025, but as of the date of the order to show cause, i.e., May 5, 2025, no Respondent had filed such a response or otherwise participated in the investigation. Id. at 3. The ALJ thus directed the Respondents to show cause, no later than May 12, 2025, as to why they should not be held in default. Id. No response to the show cause order was filed.

On June 3, 2025, the Commission determined not to review Order No. 8, finding all Respondents in default after they failed to respond to the order to show cause. See Order No. 8 (May 13, 2025), unreviewed by Comm'n Notice (Jun. 3, 2025).

On June 20, 2025, Complainant moved for summary determination on violation of section 337 by the Respondents, seeking a limited exclusion order (“LEO”) under section 337(g)(1) against the Respondents' articles that infringe each asserted patent and trade dress, and a general exclusion order (“GEO”) under section 337(g)(2) against any articles that infringe the asserted patents. Complainant also requested that the bond be set at 100 percent (100%) of the entered value of the infringing articles imported during the period of Presidential review. On July 10, 2025, Complainant filed a Notice of Withdrawal in which it withdrew its request for a GEO for the D'950, D'035, and D'032 patents. On July 11, 2025, OUII filed a response supporting Complainant's motion for summary determination of violation and requests for a GEO with respect to certain asserted patents and an LEO with respect to Respondents' articles that infringe the asserted design patents and trade dress. On July 14, 2025, Complainant filed a second Notice of Withdrawal in which it withdrew those portions of its motion requesting a GEO and a finding of a violation under section 337(g)(2) based on the accused products of Respondents OneDrop, Guangzhou Shun Cheng, Kunming Ouxiang, and Yuyoufang. Complainant reiterates its request for an LEO under section 337(g)(1) against infringing articles imported by or on behalf of all of the Respondents.

On July 23, 2025, the ALJ issued the subject ID (Order No. 10), granting Complainant's motion for summary determination of violation of section 337. Specifically, the ID found a violation of section 337 by Piergitar, Bingxin Qingfeng, and tb249835650 based on the importation of products infringing the claims of the D'928, D'951, D'927, D'812, and D'853 patents. The ID also found that the domestic industry requirement is satisfied and the evidence supporting its violation findings to be substantial, reliable, and probative. No party disputed the validity of the asserted patents and thus, they are presumed valid. The ALJ recommended a GEO based on the claims of the D'928, D'951, D'927, D'812, and D'853 patents under section 337(g)(2), as well as to a bond of one hundred percent (100%) of the entered value of the infringing articles imported during the period of Presidential review. The ALJ did not rule on Complainant's request for an LEO under section 337(g)(1) against Respondents' infringing articles. The ID also terminated the investigation before the ALJ. No party filed a petition for review of the subject ID.

The Commission has determined to review the subject ID's findings regarding the economic prong of the domestic industry and affirms the remainder of the ID.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Such submissions should address the recommended determination by the ALJ on remedy and bonding.

In its initial submission, Complainant is also requested to identify the remedy sought and Complainant and OUII are requested to submit proposed remedial orders for the Commission's consideration. Complainant is further requested to state the dates that the Asserted Patents expire, to provide the HTSUS subheadings under which the accused products are imported, and to supply the identification information for all known importers of the products at issue in this investigation. All initial written submissions, from the parties and/or third parties/interested government agencies, and proposed remedial orders from the parties must be filed no later than close of business on September 22, 2025. All reply submissions must be filed no later than the close of business on September 29, 2025. All submissions from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1428) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on September 8, 2025.

The authority for the Commission's determination is contained in section 337 of the Tariff Act of 1930, as amended (19 U.S.C. 1337), and in Part 210 of the Commission's Rules of Practice and Procedure (19 CFR part 210).

By order of the Commission.
Issued: September 8, 2025.
Susan D. Orndoff,
Supervisory Attorney.

[FR Doc. 2025-17417 Filed 9-9-25; 8:45 am]

BILLING CODE 7020-02-P